DEPARTMENT OF THE TREASURY

Office of the Comptroller of the Currency

Proposed Extension of Information Collection; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. Currently, the OCC is soliciting comment concerning its extension of an information collection titled, “Community Development Corporation and Project Investments and Other Public Welfare Investments—12 CFR 24.”

DATES: You should submit written comments by March 12, 2001.

ADDRESSES: You should direct all written comments to the Public Information Room, Office of the Comptroller of the Currency, Mailstop 1-5, Attention: 1557-0194, 250 E Street, SW., Washington, DC 20219. In addition, you may send comments by facsimile transmission to (202) 874-4448, or by electronic mail to regs.comments@occ.treas.gov. You can inspect and photocopy the comments at that address. You can make an appointment to inspect the comments by calling (202) 874-5043.

FOR FURTHER INFORMATION CONTACT: You can request additional information from or obtain a copy of the collection from Jessie Dunaway, OCC Clearance Officer, or Camille Dixon, (202) 874-5090, Legislative and Regulatory Activities Division (1557-0194), Office of the Comptroller of the Currency, 250 E Street, SW., Washington, DC 20219.

SUPPLEMENTARY INFORMATION: The OCC is proposing to extend OMB approval of the following information collection:

Title: Community Development Corporation and Project Investments and Other Public Welfare Investments—12 CFR 24.

OMB Number: 1557-0194.

Description: This submission covers an existing regulation and involves no change to the regulation or to the information collections embodied in the regulation. This regulation implements 12 U.S.C. 24 (Eleventh) which authorizes national banks to make investments that are designed primarily to promote the public welfare, including the welfare of low-and moderate-income families and communities (such as through the provision of housing, services, or jobs) consistent with safe and sound banking practices. The statute requires the OCC to limit a national bank's investment in any one project as well as its aggregate investment in such projects. This regulation requires national banks to make occasional filings to the OCC regarding investment proposals, certain self-certifications, and requests from 3-rated banks to self-certify.

The OCC is providing national banks with a form by which they make these filings and notify the OCC of investments authorized by 12 U.S.C. 24 (Eleventh). National banks must use this form either to self-certify an investment, pursuant to 12 CFR 24.5(a), or to submit a request for prior OCC approval of an investment, pursuant to 12 CFR 24.4(a) and 24.5(b). The OCC's form simplifies the self-certification and prior approval processes by outlining the rule's requirements and allowing banks to check off most responses. This streamlining of information that national banks must submit to the OCC helps to reduce the time and burden attendant to the rule's notification and approval processes. The OCC intends that this form will encourage banks to increase or enhance their investments under part 24.

A national bank that is not eligible to self-certify investments under 12 CFR 24.2(e), but is at least adequately capitalized and has a composite rating of at least 3 with improving trends under the Uniform Financial Institutions Rating System, may continue to submit a letter to the OCC's Community Development Division requesting the authority to self-certify investments, pursuant to 12 CFR 24.5(a)(4). The bank may also use the OCC's form to request prior OCC approval of its investments.

The information collection requirements in 12 CFR part 24 are located as follows:

Self certification of public welfare investments (12 CFR 24.5(a)): To self-certify an investment, an eligible bank shall submit a letter of self-certification to the OCC, within 10 days after it makes an investment.

Letters from 3-rated banks requesting to self-certify (12 CFR 24.5(a)(4)): A national bank that is not an eligible bank but that is at least adequately capitalized, and has a composite rating of at least 3 with improving trends under the Uniform Financial Institutions Rating System, may submit a letter to the OCC requesting authority to self-certify investments.

Investments requiring prior approval (12 CFR 24.5(b)): If a national bank does not meet the requirements for self-certification set forth in part 24, the bank must submit a proposal to the OCC requesting prior approval for an investment.

Type of Review: Extension of a currently approved collection.

Affected Public: Businesses or other for-profits.

Estimated Number of Respondents: 204.

Estimated Total Annual Responses: 204.

Frequency of Response: On occasion.

Estimated Total Annual Burden: 408 burden hours.

An agency may not conduct or sponsor, and a respondent is not required to respond to an information collection unless the information collection displays a currently valid OMB control number.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: January 5, 2001.
Mark J. Tenhundfeld,
Assistant Director, Legislative & Regulatory Activities Division.

OCC's Form for Processing National Bank Community Development (Part 24) Investments

National banks may make investments designed primarily to promote the public welfare under the community development investment authority in 12 USC 24 (Eleventh) and its implementing regulation, 12 CFR 24 (Part 24). Part 24 contains the OCC guidelines to determine whether an investment is designed primarily to promote the public welfare and procedures that apply to these investments. National banks must submit the completed Form to self-certify or request prior approval of a public welfare investment.

Please provide the following information about the investing bank.

Bank name and charter: | Address:
Telephone number:
Facsimile number:
E-mail address/URL:

Please indicate the process that the bank requests.

__Self-certification (12 CFR 24.5(a)) complete sections 1 and 2.

__Prior approval (12 CFR 24.5(b)) complete section 2.

Section 1 “ Self-Certification Only (12 CFR 24.5(a))

1. Please respond to the following questions to determine whether the bank is eligible to self-certify its Part 24 investments (12 CFR 24.2 (e)).

a. Is the bank “well-capitalized,” as defined in 12 CFR 6.4(b)(1)?

__Yes

__No (please answer question 1e.)

b. Does the bank have a composite rating of 1 or 2 under the Uniform Financial Institutions Rating System?

__Yes

__No (please answer question 1e.)

c. What was the bank's most recent Community Reinvestment Act rating?

__Outstanding

__Satisfactory

__Other (please answer question 1e.)

d. Is the bank under a cease and desist order, consent order, formal written agreement, or Prompt Corrective Action directive?

__Yes (please answer question 1e.)

__No

e. Has the OCC provided written notification that the bank may submit Part 24 self-certifications or otherwise be treated as an “eligible bank” for the purposes of Part 24?

__Yes (Please attach a copy of the OCC's written notification.)

__No (This investment cannot be self-certified. Please either: (a) send a letter to the OCC to request authorization to self-certify; or (b) complete section 2 to request prior OCC approval).

2.Please respond to the following questions about the bank's investment to determine whether the bank may self-certify its Part 24 investments (12 CFR 24.4(a) and 24.5(a)(5)):

a. Does the bank's aggregate outstanding investments under Part 24 exceed 5 percent of its capital and surplus?

__Yes (This investment cannot be self-certified. Please complete section 2 to request prior OCC approval.)

__No

b. Does this investment involve properties carried on the bank's books as “other real estate owned”?

__Yes (This investment cannot be self-certified. Please complete section 2 to request prior OCC approval.)

__No

c. Has the OCC determined, in published guidance, that this investment type is inappropriate for self-certification? [For information about such investments, please refer to the most recent OCC Directory of National Bank Community Development Investments, visit the OCC's web page (http://www.OCC.treas.gov), or contact the OCC's Community Development Division (202) 874-4930). ]

__Yes (This investment cannot be self-certified. Please complete section 2 to request prior OCC approval.)

__No

(To continue the self-certification process or to request prior OCC approval, please proceed to section 2 of this Form.)

Section 2—All Requests

1. Please indicate the following about the bank's investment:

a. The name of the CDC, CD project, or entity into which the bank's investment has been or will be made. ________

b. The date on which the subject investment was or will be made. ________

c. The type of investment (debt or equity). ________

2. Please indicate how the bank's investment is consistent with Part 24 requirements for investment limits under 12 CFR 24.5.

a. Dollar amount of the bank's investment that is the subject of this submission: $ ________

b. Dollar amount of the bank's aggregate outstanding Part 24 investments (include this investment): $ ________

c. Bank's capital and surplus: $ ________ (Please indicate date ________.)

d. Percentage of the bank's capital and surplus represented by the aggregate outstanding Part 24 investments and commitments (include this investment) ____ %

e. Does this investment expose the bank to unlimited liability?

__ Yes (This investment cannot be made under Part 24.)

__ No (Please explain in question 4b.)

3. Please indicate how the bank's investment is consistent with Part 24 requirements for public welfare investments under 12 CFR 24.3(a):

a. Check at least one of the following that benefits primarily from the bank's investment:

__ Low- and moderate-income individuals.

__ Low- and moderate-income areas.

__ Areas targeted for redevelopment by local, state, tribal, or federal government (including federal enterprise communities and federal empowerment zones).

b. Please identify at least one of the following activities that the bank's investment provides or supports:

__ Affordable housing, community services, or permanent jobs for low- and moderate-income individuals.

__ Equity or debt financing for small businesses.

__ Area revitalization or stabilization.

__ Other activities, services, or facilities that primarily promote the public welfare.

4.Please attach a brief description of the bank's investment. (See 12 CFR 24.5(a)(2)(iii) and (b)(2)(iii)). Include the following information in the description:

a. The activity or activities of the entity in which the bank has or will invest. (See examples of investment activities described in 12 CFR 24.6(a)).

b. Explain how the investment does not expose the bank to unlimited liability, such as by describing the structure of the investment (e.g., CDC subsidiary, multibank CDC, multi-investor CDC, limited partnership, limited liability company, community development bank) and by providing any other relevant information.

c. The total funding for the project from all sources, if known.

d. The geographic area served by the investment entity.

e. Any community development partners involved in the project (e.g., government or public agencies, nonprofits, other investors), if known.

f. Supplemental information (e.g., prospectus, annual report, web address that contains information on the entity in which the investment is made), if available.

5.Please identify the type(s) of nonbank community support for or participation in the investment. (See 12 CFR 24.3(b)):

__ Representation on the board of directors by nonbank community representatives with expertise relevant to the proposed investment.

__ Establishment of an advisory board for the bank's community development activities that includes nonbank community representatives with expertise relevant to the proposed investment.

__ Formation of a formal business relationship with a community-based organization for the proposed investment.

__ Contractual agreements with community partners to provide services for the proposed investment.

__Joint ventures with local small businesses in the proposed investment.

__Financing for the proposed investment from the public sector or community development organizations or the receipt of federal low-income housing tax credits by the project in which the investment is made (directly or through a fund that invests in such projects).

__Other (please describe).

6. Contact for additional information:

Name:

Title:

Address:

Telephone number:

Facsimile number:

E-mail Address:

7. Certification

The undersigned hereby certifies that the foregoing information in this Form is accurate and complete and that this investment complies with the requirements of 12 CFR 24.3 and 24.4 and does not expose the bank to unlimited liability. It is further certified that the undersigned is the bank's authorized representative for Part 24 investments.

Name

Title

Signature

Date

[FR Doc. 01-839 Filed 1-10-01; 8:45 am]

BILLING CODE 4810-33-P